DEPARTMENT OF AGRICULTURE

Submission for OMB Review; Comment Request

November 13, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 18, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Assessment of the Collection, Analysis, Validation, and Reporting of SNAP Employment and Training Data project.

OMB Control Number: 0584-New.

Summary of Collection: Section 17 [7 U.S.C. 2026] (a)(1) of the Food and Nutrition Act of 2008, as amended, provides general legislative authority for the planned data collection. It authorizes the Secretary of Agriculture to enter into contracts with private institutions to undertake research that will help to improve the administration and effectiveness of SNAP in delivering nutrition-related benefits. Under the Supplemental Nutrition Assistance Program (SNAP), States are required to operate an Employment and Training (E&T) program to help participants gain skills, education, training, and experience that lead to employment and greater economic self-sufficiency.

Need and Use of the Information: FNS will: (1) Identify and describe the current State and Federal systems that collect, validate, and analyze E&T data; (2) assess the current and future E&T data needs of Federal, Regional, and State staff; and (3) recommend a plan to improve how Federal, Regional, and State staff collect and use data for E&T program improvement and reporting. The data collection effort will culminate in a comprehensive final report of recommendations for FNS to meet its current and future data needs for the SNAP E&T program. The report will describe the current Federal, Regional, and State data systems and processes; the current and future data needs and goals of SNAP E&T; and the gaps between the current systems and data needs.

In addition, the report will recommend methods to address these gaps through changes to data systems and information technology (IT) solutions, improved business processes, and expanded technical assistance.

Description of Respondents: State, Local, Tribal Government, Private Sector (Business-for-profit and not-for profit).

Number of Respondents: 284.

Frequency of Responses: Reporting: On occasion.

Total Burden Hours: 553.

Food and Nutrition Service

Title: Supplemental Nutrition Assistance Program Emergency Allotments (COVID-19).

OMB Control Number: 0584-0652.

Summary of Collection: The Families First Coronavirus Response Act of 2020 Public Law 116-127, enacted March 18, 2020, includes a general provision that allows the Department of Agriculture to issue emergency allotments (EA). This is based on a public health emergency declaration by the Secretary of Health and Human Services under section 319 of the Public Health Service Act related to an outbreak of COVID-19 when a State has also issued an emergency or disaster declaration. This collection is for activities associated with administering emergency allotments.

Need and Use of the Information: State agencies impacted by COVID-19 may submit a waiver request to their FNS Regional Office for approval to provide an EA to households to bring all households up to the maximum benefit due to pandemic related economic conditions. Because the EA waiver increases the monthly benefit of participants above the amount originally anticipated for this fiscal year, the amount of benefits issued and redeemed must be carefully tracked to ensure FNS does not exceed its appropriation. As such, it is necessary for FNS to collect information from State agencies.

Description of Respondents: State, Local, or Tribal Government.

Number of Respondents: 53.

Frequency of Responses: Reporting: On occasion.

Total Burden Hours: 763.

Ruth Brown,
Departmental Information Collection Clearance Officer.

[FR Doc. 2020-25444 Filed 11-17-20; 8:45 am]

BILLING CODE 3410-18-P